DEPARTMENT OF AGRICULTURE

Grain Inspection, Packers and Stockyards Administration

Request for Extension and Revision of a Currently Approved Information Collection Under the Packers and Stockyards Act

AGENCY: Grain Inspection, Packers and Stockyards Administration, USDA.

ACTION: Notice and request for comments.

SUMMARY: This notice announces the Grain Inspection, Packers and Stockyards Administration's (GIPSA) intention to request that the Office of Management and Budget (OMB) approve a 3-year extension of a currently approved information collection in support of the reporting and recordkeeping requirements under the Packers and Stockyards Act of 1921, as amended and supplemented (P&S Act). This approval is required under the Paperwork Reduction Act of 1995 (PRA).

DATES: We will consider comments that we receive by August 7, 2017.

ADDRESSES: We invite you to submit comments on this notice. You may submit comments by any of the following methods:

• Internet: Go to http://www.regulations.gov. Follow the online instructions for submitting comments.

• Hardcopy: Mail, hand deliver, or courier to Dexter Thomas, GIPSA, USDA, 1400 Independence Avenue SW., Room 2530-S, Washington, DC 20250-3604.

• Fax: (202) 690-2173.

Instructions: All comments should refer to the date and page number of this issue of the Federal Register. The information collection package, public comments and other documents relating to this action will be available for public inspection during regular business hours (7 CFR 1.27(b)). Please call GIPSA's Management and Budget Services at (202) 720-8479 to arrange a viewing of these documents.

FOR FURTHER INFORMATION CONTACT: Catherine Grasso, Program Analyst, Litigation and Economic Analysis Division at (202)720-7201 or Catherine.M.Grasso@usda.gov.

SUPPLEMENTARY INFORMATION: GIPSA administers and enforces the P&S Act (7 U.S.C. 181-229, 229c). The P&S Act prohibits unfair, deceptive, and fraudulent practices by livestock market agencies, dealers, stockyard owners, meat packers, swine contractors, and live poultry dealers in the livestock, poultry, and meatpacking industries.

Title: Packers and Stockyards Program Reporting and Recordkeeping Requirements.

OMB Number: 0580-0015.

Expiration Date of Approval: November 30, 2017.

Type of Request: Extension and revision of a currently approved information collection.

Abstract: The P&S Act and the regulations issued under the P&S Act authorize the collection of information for the purpose of enforcing the P&S Act and regulations and for conducting studies requested by Congress. Through the forms in this information collection, GIPSA's Packers and Stockyards Program (P&SP) gathers information that keeps P&SP current on the ownership and operations of regulated entities which permit P&SP oversight of the regulated entities. For example, P&SP gathers information regarding the number of head of livestock purchased and the cost of the livestock to determine if the entity is adequately bonded to protect the livestock sellers. The information regarding the amount of livestock purchased is also consolidated for public reporting in GIPSA's annual report. Other financial information is gathered to determine if the regulated entities are operating while solvent as required by the P&S Act. This information collection is necessary for GIPSA to monitor and examine financial, competitive, and trade practices in the livestock, meat packing and poultry industries. The purpose of this notice is to solicit comments from the public concerning GIPSA's information collection.

Estimate of Burden: Public reporting and recordkeeping burden for this collection of information is estimated to average 1.73 hours per response.

Respondents (Affected Public): Livestock auction markets, livestock dealers, packer buyers, meat packers, and live poultry dealers.

Estimated Number of Respondents: 22,900.

Estimated Number of Responses per Respondent: 3.2.

Estimated Total Annual Burden on Respondents: 348,328 hours.

As required by the PRA (44 U.S.C. 3506(c)(2)(A)) and its implementing regulations (5 CFR 1320.8(d)(1)(i)), GIPSA specifically requests comments on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Authority: 44 U.S.C. 3506 and 5 CFR 1320.8.

Randall D. Jones,
Acting Administrator, Grain Inspection, Packers and Stockyards Administration.

[FR Doc. 2017-11806 Filed 6-6-17; 8:45 am]

BILLING CODE 3410-KD-P